DEPARTMENT OF JUSTICE

Antitrust Division

Notice Pursuant to The National Cooperative Research and Production Act of 1993—America's Datahub Consortium

Notice is hereby given that, on November 11, 2021, pursuant to Section 6(a) of the National Cooperative Research and Production Act of 1993, 15 U.S.C. 4301 et seq. (“the Act”), America's DataHub Consortium (“ADC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identity of the parties to the venture are: 2Is Inc., Walpole, MA; American Economic Association, Nashville, TN; American Statistical Association, Alexandria, VA; Applied Information Sciences (AIS), Reston, VA; Bowie State University, Bowie, MD; CGI Federal, Fairfax, VA; Columbia University Data Science Institute, New York, NY; Concurrent Technologies Corporation, Johnstown, PA; Council of Professional Organizations on Federal Statistics, Washington, DC; Data Security Technologies LLC, Richardson, TX; Emerging Sun, LLC, Bethesda, MD; FDHint, LLC, Purchase, NY; Malum, Inc., Coralville, IA; MRIGlobal, Kansas City, MO; NanoVMs, Inc., San Francisco, CA; National Opinion Research Center, Chicago, IL; Northeast Information Discovery Inc., Canastota, NY; PitchBook Data, Inc., Seattle, WA; Quantitative Scientific Solutions, LLC, Arlington, VA; SRI International, Menlo Park, CA; The Coleridge Initiative Inc, Chevy Chase, MD; The Informatics Applications Group, Inc (dba TIAG), Reston, VA; Trustees of Tufts College, Inc., Medford, MA; University of Florida Institute of Marine Remote Sensing, St. Petersburg, FL; University of Tennessee, Knoxville, TN; University of Southern Mississippi, Gulfport, MS; Urban Institute, Washington, DC; Vertosoft LLC, Leesburg, VA. The general area of ADC's planned activity is to perform a coordinated research and development program to further the National Center for science and Engineering Statistics' (NCSES) statutory role as a central Federal clearinghouse for the collection, interpretation, analysis, and dissemination of objective data on science, engineering, technology, and research and development. ADC's planned activity is to develop new ways of acquiring, cleaning, and standardizing data; combining multiple data sets; and linking data from various government and private sources to yield valuable insights into critical issues. The consortium was formed effective August 10th, 2021.

Suzanne Morris,
Chief, Premerger and Division Statistics, Antitrust Division.

[FR Doc. 2021-27742 Filed 12-21-21; 8:45 am]

BILLING CODE P